DEPARTMENT OF TRANSPORTATION

Federal Aviation Administration

Twenty-First Meeting: RTCA Special Committee (222) AMS(R)S

AGENCY: Federal Aviation Administration (FAA), U.S. Department of Transportation (DOT).

ACTION: Notice of Twenty-First RTCA Special Committee 222 Meeting.

SUMMARY: The FAA is issuing this notice to advise the public of the Twenty-First RTCA Special Committee 222 meeting.

DATES: The meeting will be held November 9th from 9:00 a.m.-4:00 p.m.

ADDRESSES: The meeting will be held at RTCA, Inc., 1150 18th Street NW., Suite 910, Washington, DC 20036, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 222. The agenda will include the following:

Monday, November 9, 2015

1. Greetings & Attendance

2. Review summaries of the January 2015, April 2015, and September 2015 meetings, including the joint meetings with WG-82 in April and September

3. Discussion and resolution of the FRAC comments submitted on DO-262B, Change 1. This change affects the Iridium technique-specific material

4. If time permits, the floor will be open to discussion of any other business related to the current Terms of Reference of SC-222

5. Review of next scheduled meetings of SC-222 and joint SC-222/WG-82

Attendance is open to the interested public but limited to space availability. With the approval of the chairman, members of the public may present oral statements at the meeting. Plenary information will be provided upon request. Persons wishing to present statements or obtain information should contact the person listed in the FOR FURTHER INFORMATION CONTACT section. Members of the public may present a written statement to the committee at any time.

Issued in Washington, DC, on October 16, 2015.
Latasha Robinson,
Management & Program Analyst, Next Generation, Enterprise Support Services Division, Federal Aviation Administration.

[FR Doc. 2015-26862 Filed 10-21-15; 8:45 am]

BILLING CODE 4910-13-P